DEPARTMENT OF TRANSPORTATION

Federal Motor Carrier Safety Administration

Qualification of Drivers; Exemption Applications; Vision

AGENCY: Federal Motor Carrier Safety Administration (FMCSA), DOT.

ACTION: Notice of denials.

SUMMARY: The FMCSA announces its denial of 81 applications from individuals who requested an exemption from the Federal vision standard applicable to interstate truck drivers and the reasons for the denials. The FMCSA has statutory authority to exempt individuals from the vision standard if the exemptions granted will not compromise safety. The agency has concluded that granting these exemptions does not provide a level of safety that will equal or exceed the level of safety maintained without the exemptions for these commercial motor vehicle drivers.

FOR FURTHER INFORMATION CONTACT: Ms. W. Teresa Doggett, Office of Bus and Truck Standards and Operations, (MC-PSD), (202) 366-2990, Department of Transportation, FMCSA, 400 Seventh Street, SW., Washington, DC 20590-0001. Office hours are from 7:45 a.m. to 4:15 p.m., e.t., Monday through Friday, except Federal holidays.

SUPPLEMENTARY INFORMATION:

Background

Under 49 U.S.C. 31315 and 31136(e), FMCSA may grant an exemption from the Federal vision standard for a renewable 2-year period if it finds such an exemption would likely achieve a level of safety that is equivalent to, or greater than, the level that would be achieved absent such an exemption (49 CFR 381.305(a)).

Accordingly, FMCSA evaluated 81 individual exemption requests on their merits and made a determination that these applicants do not satisfy the criteria established to demonstrate that granting an exemption is likely to achieve an equal or greater level of safety than exists without the exemption. Each applicant has, prior to this notice, received a letter of final disposition on his/her individual exemption request. Those decision letters fully outlined the basis for the denial and constitute final agency action. The list published today summarizes the agency's recent denials as required under 49 U.S.C. 31315(b)(4) by periodically publishing names and reason for denials.

The following 42 applicants lacked sufficient recent driving experience over three years:

Anagnostou, Hristodoulos G.

Anderson, Marvin E.

Beermann, Gary W.

Casson, Robert A.

Chandler, Bobby Lee

Davis, Bernice F.

DeZutel, Jr., Edmund F.

Dikkers, Kenneth J.

Dixon, Russell R.

Eckenroth, Ronald C.

Garcia, Humberto

Gruszecki, Ronald J.

Hetteroth, Anthony D.

Hildebrand, Todd A.

Holt, Lane D.

Houser, Leonard J.

Irwin, Ronald R.

Kosen, Lance B.

Kyle, Everett R.

Lopez, Jose A.

Luff, Timothy L.

Mackey, Ray C.

McCoy, Rickie

Mitchell, Allen R.

Mumaw, David P.

Noonan, Robert

Norman, Anthony J.

Partridge, Gary S.

Pender, Scott W.

Rooker, Jr., John H.

Russler, James S.

Shirk, Dean R.

Sopko, Michael

Thompson, Robert M.

Tucker, Raymond R.

VanWormer, John R.

Vette, Charles

Voltz, Jeffrey A.

Walker, Scott C.

Warren, Claude E.

Widener, Wallis G.

Wood, Nathen G.

Two applicants, Ms. Debra K. Anderson and Mr. David Williford, do not have experience operating a commercial motor vehicle (CMV) and therefore presented no evidence from which FMCSA can conclude that granting the exemption is likely to achieve a level of safety equal to that existing without the exemption.

The following 15 applicants do not have 3 years of experience driving a CMV on public highways with the vision deficiency:

Beanblossom, Theodore

Cardwell, David G.

Fitzgerald, David P.

Gamble, Charles E.

Gebhardt, Randy N.

Huelster, Randy L.

Latham, Bernard

Lefew, Charlie H.

Marlatt, George

Presholt, David M.

Sowders, James R.

Storm, Stacey L.

Tart, Tony M.

White, James F. E.

Wolfe, Michael D.

The following 7 applicants do not have 3 years of recent experience driving a CMV with the vision deficiency:

Clark, Sr., Freddie C.

Colvin, David L.

DeBruler, Gregory L.

Glaser, Harlan D.

Hall, Samuel D.

Leonard, Sr., Robert L.

Wallace, Billy G.

One applicant, Mr. Richard L. Gandee, does not need the exemption because he meets the vision requirements of 49 CFR 391.41(b)(10).

The following 6 applicants' commercial drivers' licenses were suspended during the 3-year period because of a moving violation. Applicants do not qualify for an exemption with a suspension during the 3-year period.

Figueroa, Gerardo

Green, Britt A.

Harris, Robert A.

Hilby, Glen G.

Ogburn, Will H.

Weber, Chic

The following 4 applicants contributed to a crash while operating a CMV, which is a disqualifying offense.

Grubbs, Bobby D.

Jones, Harold D.

Risch, Michael J.

Ward, Dennis

Two applicants, Mr. Dick A. Schwab and Mr. Edward K. Flood, did not hold licenses which allow operation of a CMV over 10,000 pounds gross vehicle weight rating for all or part of the 3-year period.

One applicant, Mr. Paul T. Breitigan, has a vision deficiency that has been unstable during the 3-year period.

One applicant, Mr. John C. Mason, refused to provide required documentation and therefore presented no verifiable evidence from which FMCSA can conclude that granting the exemption is likely to achieve a level of safety equal to that existing without the exemption.

Issued on: July 23, 2004.
Rose A. McMurray,
Associate Administrator for Policy and Program Development.

[FR Doc. 04-17412 Filed 7-29-04; 8:45 am]

BILLING CODE 4910-EX-P